DEPARTMENT OF AGRICULTURE

Hood/Willamette Resource Advisory Committee (RAC)

AGENCY: Forest Service, USDA.

ACTION: Action of meeting.

SUMMARY: The Hood/Willamette Resource Advisory Committee (RAC) will meet on Friday, June 25, 2004. The meeting is scheduled to begin at 9 a.m. and will conclude at approximately 3 p.m. The meeting will be held at the Salem Office of the Bureau of Land Management Office, 1717 Fabry Road SE., Salem, Oregon, (503) 375-5646. The tentative agenda includes: (1) Recommendations on 2005 Projects; and (2) Public Forum. The Public Forum is tentatively scheduled to begin at 9:30 p.m. Time allotted for individual presentations will be limited to 3-4 minutes. Written comments are encouraged, particularly if the material cannot be presented within the time limits for the Public Forum. Written comments may be submitted prior to the June 26th meeting by sending them to Designated Federal Official Donna Short at the address given below.

FOR FURTHER INFORMATION CONTACT: For more information regarding this meeting, contact Designated Federal Official Donna Short; Sweet Home Ranger District, 3225 Highway 20, Sweet Home, Oregon 97386, (541) 367-9220.

Dated: May 21, 2004.
Dallas J. Emch,
Forest Supervisor.

[FR Doc. 04-12438 Filed 6-1-04; 8:45 am]

BILLING CODE 3410-11-M